DEPARTMENT OF TRANSPORTATION

Federal Aviation Administration

Eighty Seventh RTCA SC-147 Plenary Session

AGENCY: Federal Aviation Administration (FAA), U.S. Department of Transportation (DOT).

ACTION: Eighty Seventh RTCA SC-147 Plenary Session.

SUMMARY: The FAA is issuing this notice to advise the public of a meeting of Eighty Seventh RTCA SC-147 Plenary Session.

DATES: The meeting will be held March 08, 2018 9:00 a.m.-4:30 p.m.

ADDRESSES: The meeting will be held at: RTCA Headquarters, 1150 18th Street NW, Suite 910, Washington, DC 20036.

FOR FURTHER INFORMATION, CONTACT: Al Secen at asecen@rtca.org or 202-330-0647, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Eighty Seventh RTCA SC-147 Plenary Session. The agenda will include the following:

Thursday March 8, 2018

1. Opening Plenary Session—Co-Chairs

A. Chairmen's Opening Remarks/Introductions

B. RTCA Federal Advisory Act and Proprietary Material Policies Review

C. Approval of Minutes From 86th Meeting of SC-147

D. Approval of Minutes From December 2017 Joint Working Group Meeting

E. Approval of Agenda

F. Future Meeting Scheduling

2. Report From WG-75

3. SESAR Updates

4. Working Group Report

A. Report From Coordination Subgroup

B. Report From Threat Resolution Working Group

C. Report From Surveillance Working Group

D. Report From ACAS XU Subgroup

5. CAS Interoperability MASPS: Status, Schedule, and SC-147 TORS

6. ACAS XA/XO MOPS Status & Approval to Conduct Final Review and Comment (FRAC) Process

A. Final Status of Mops

B. FRAC/OC Process & Schedule Overview

C. Committee Approve for FRAC Process

7. Other Business

8. New Business

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on January 18, 2018.
Mohannad Dawoud,
Management & Program Analyst, Partnership Contracts Branch, ANG-A17, NextGen, Procurement Services Division, Federal Aviation Administration.

[FR Doc. 2018-01131 Filed 1-22-18; 8:45 am]

BILLING CODE 4910-13-P